FEDERAL HOUSING FINANCE AGENCY

[No. 2010-N-05]

Privacy Act of 1974; System of Records

AGENCY: Federal Housing Finance Agency.

ACTION: Notice of the establishment of new systems of records.

SUMMARY: In accordance with the requirements of the Privacy Act of 1974, as amended (Privacy Act), the Federal Housing Finance Agency (FHFA) gives notices of two proposed Privacy Act systems of records.

The first proposed system is “Compensation Information Provided by the Regulated Entities” (FHFA-4), which will contain compensation-related information on entities regulated by FHFA. The information will be analyzed and evaluated by FHFA in carrying out its statutory authority to prohibit and withhold compensation. Individuals covered by the system will be present and former directors and executives of the Federal Home Loan Banks and present and former directors, executives and employees of the Federal Home Loan Mortgage Corporation and the Federal National Mortgage Association.

The second proposed system is “Photographic Files” (FHFA-5), which will contain photographic materials, in print and electronic format, related to FHFA staff and events. FHFA will use these photographic records for distribution and reproduction in agency documents and communications such as reports, agency plans, training materials, press releases, briefing materials, research documents, newsletters, and presentations.

DATES: These two new systems of records will become effective on June 21, 2010 without further notice unless comments necessitate otherwise. FHFA will publish a new notice if the effective date is delayed to review comments or if changes are made based on comments received. To be assured of consideration, comments should be received on or before June 9, 2010.

ADDRESSES: Submit comments to FHFA only once, identified by “2010-N-05,” using any one of the following methods:

• U.S. Mail, United Parcel Service, Federal Express, or Other Mail Service: The mailing address for comments is: Alfred M. Pollard, General Counsel, Attention: Comments/No. 2010-N-05, Federal Housing Finance Agency, Fourth Floor, 1700 G Street, NW., Washington, DC 20552.

• Hand Delivered/Courier: The hand delivery address is: Alfred M. Pollard, General Counsel, Attention: Comments/No. 2010-N-05, Federal Housing Finance Agency, Fourth Floor, 1700 G Street, NW., Washington, DC 20552. The package should be logged at the Guard Desk, First Floor, on business days between 9 a.m. and 5 p.m.

• E-mail: Comments to Alfred M. Pollard, General Counsel, may be sent by e-mail to RegComments@fhfa.gov. Please include “Comments/No. 2010-N-05,” in the subject line of the message.

• Federal eRulemaking Portal: http://www.regulations.gov. Follow the instructions for submitting comments. If you submit your comment to the Federal eRulemaking Portal, please also send it by e-mail to FHFA at RegComments@fhfa.gov to ensure timely receipt by the agency. Please include “Comments/No. 2010-N-05” in the subject line of the message.

See SUPPLEMENTARY INFORMATION for additional information on submission and posting of comments.

FOR FURTHER INFORMATION CONTACT: John Major, Privacy Act Officer, john.major@fhfa.gov, 202-408-2849, or David A. Lee, Senior Agency Official for Privacy, david.lee@fhfa.gov, 202-408-2514 (not toll free numbers), Federal Housing Finance Agency, 1700 G Street, NW., Fourth Floor, Washington, DC 20552. The telephone number for the Telecommunications Device for the Deaf is 800-877-8339.

SUPPLEMENTARY INFORMATION:

I. Comments

Instructions: FHFA seeks public comments on the two proposed new systems of records and will take all comments into consideration before issuing the final notice. See 5 U.S.C. 552a(e)(4) and (11). In addition to referencing “Comments/No. 2010-N-05,” please reference the title and number of the system of records your comment addresses: “Compensation Information Provided by the Regulated Entities” (FHFA-4), or “Photographic Files” (FHFA-5).

Posting and Public Availability of Comments: All comments received will be posted without change on the FHFA Web site at http://www.fhfa.gov, and will include any personal information provided. In addition, copies of all comments received will be available for examination by the public on business days between the hours of 10 a.m. and 3 p.m., at the Federal Housing Finance Agency, Fourth Floor, 1700 G Street, NW., Washington, DC 20552. To make an appointment to inspect comments, please call the Office of General Counsel at 202-414-6924.

II. Introduction

This notice informs the public of FHFA's proposal to establish and maintain two new systems of records. This notice satisfies the Privacy Act requirement that an agency publish a system of records notice in the Federal Register when there is an addition to the agency's system of records. It has been recognized by Congress that application of all requirements of the Privacy Act to certain categories of records may have an undesirable and often unacceptable effect upon agencies in the conduct of necessary public business. Consequently, Congress established general exemptions and specific exemptions that could be used to exempt records from provisions of the Privacy Act. Congress also required that exempting records from provisions of the Privacy Act would require the head of an agency to publish a determination to exempt a record from the Privacy Act as a rule in accordance with the Administrative Procedures Act. The Director of FHFA has determined that records and information in these two new systems of records are not exempt from requirements of the Privacy Act.

As required by the Privacy Act, 5 U.S.C. 552a(r), and pursuant to paragraph 4c of Appendix I to OMB Circular No. A-130, “Federal Agency Responsibilities for Maintaining Records About Individuals,” dated February 8, 1996 (February 20, 1996; 61 FR 6427, 35), FHFA has submitted a report describing the two new systems of records covered by this notice, to the Committee on Government Operations of the House of Representatives, the Committee on Governmental Affairs of the Senate, and the Office of Management and Budget.

The proposed two new systems of records described above are set forth in their entirety below.

FHFA-4

system name:

Compensation Information Provided by the Regulated Entities.

security classification:

Unclassified but sensitive.

system location:

Federal Housing Finance Agency, 1700 G Street, NW., Washington, DC 20552 and 1625 Eye Street, NW., Washington, DC 20006.

categories of individuals covered by the system:

Present and former directors and executives of the Federal Home Loan Banks and present and former directors, executives and employees of the Federal Home Loan Mortgage Corporation and the Federal National Mortgage Association.

categories of records in the system:

Records contain information such as name, position, organization, address, education, professional credentials, work history, compensation data, and employment information of present and former directors and executives of the Federal Home Loan Banks and present and former directors, executives and employees of the Federal Home Loan Mortgage Corporation and the Federal National Mortgage Association (collectively, “regulated entities”).

authority for maintenance of the system:

The system is established and maintained pursuant to 12 U.S.C. 1427, 1452(h), 4502(6), 4502(12), 4513, 4514, 4517, 4518, 4526, 4617, 4631, 4632, 4636, and 1723a(d).

purpose(s):

The information in this system of records will be analyzed and evaluated by FHFA staff in carrying out the statutory authorities of the Director with respect to the oversight of compensation provided by the regulated entities, consistent with the safety and soundness responsibilities of FHFA under the Federal Housing Enterprises Financial Safety and Soundness Act of 1992, as amended, and the Federal Home Loan Bank Act, as amended.

routine uses of records maintained in the system, including categories of users and the purposes of such uses:

It shall be a routine use to disclose information contained in this system for the purposes and to the users identified below:

1. FHFA personnel authorized as having a need to access the records in performance of their official functions.

2. Another Federal agency if the records are relevant and necessary to carry out that agency's authorized functions and consistent with the purpose of the system.

3. A consultant, person, or entity that contracts or subcontracts with FHFA, to the extent necessary for the performance of the contract or subcontract and consistent with the purpose of the system, provided that the person or entity acknowledges in writing that it is required to maintain Privacy Act safeguards for the information.

disclosure to consumer reporting agencies:

None.

policies and practice for storing, retrieving, accessing, retaining and disposing of records in the system:

storage:

Records in this system are stored in paper and electronic format.

retrievability:

Records can be retrieved by last name, first name, organization, and position.

safeguards:

Records are maintained in controlled access areas. Electronic records are protected by restricted access procedures, including user identifications and passwords. Only FHFA staff whose official duties require access are allowed to view, administer, and control these records.

retention and disposal:

Records are maintained in accordance with National Archives and Records Administration and FHFA retention schedules. Records are disposed of according to accepted techniques.

system manager(s) and address:

Office of Policy, Analysis and Research and the Division of Bank Regulation, Federal Housing Finance Agency, 1700 G Street, NW., Washington, DC 20552.

notification procedures:

Direct inquiries as to whether this system contains a record pertaining to an individual to the Privacy Act Officer by electronic mail, regular mail, or fax. The electronic mail address is: privacy@fhfa.gov. The regular mail address is: Privacy Act Officer, Federal Housing Finance Agency, 1625 Eye Street, NW., Washington, DC 20006. The fax number is: 202-408-2580. For the quickest possible handling, you should mark your electronic mail, letter, or fax and the subject line, envelope, or fax cover sheet “Privacy Act Request” in accordance with the procedures set forth in 12 CFR part 1204.

record access procedures:

Direct requests to access, amend, or correct a record to the Privacy Act Officer, Federal Housing Finance Agency, 1625 Eye Street, NW., Washington, DC 20006, in accordance with the procedures set forth in 12 CFR part 1204.

contesting record procedures:

Direct requests to contest or appeal an adverse determination for a record to the Privacy Act Appeals Officer, Federal Housing Finance Agency, 1700 G Street, NW., Washington, DC 20552, in accordance with the procedures set forth in 12 CFR part 1204.

record source categories:

The information is obtained from the regulated entities.

exemptions claimed for the system:

Some information in this system that are investigatory and compiled for law enforcement purposes are exempt under subsection 552a(k)(2) of the Privacy Act to the extent that information within the system meets the criteria of that subsection of the Privacy Act. The exemption is necessary in order to protect information relating to law enforcement investigations and others who could interfere with investigatory and law enforcement activities. The exemption will preclude subjects of investigations from frustrating investigations, will avoid disclosure of investigative techniques, will protect the identities and safety of confidential informants and of law enforcement personnel, will ensure FHFA's ability to obtain information from various sources, will protect the privacy of third-parties, and will safeguard sensitive information.

Some information contained in this system of records may be proprietary to other Federal agencies and subject to exemptions imposed by those agencies, including the criminal law enforcement investigatory material exemption of 5 U.S.C. 552a(j)(2).

FHFA-5

System Name:

Photographic Files.

Security Classification:

None.

System Location:

Federal Housing Finance Agency, 1700 G Street NW., Washington, DC 20552.

Categories of Individuals Covered by the System:

Records cover present and former employees, visitors from other Federal agencies, and members of the public.

Categories of Records in the System:

Records contain photographs including hardcopy and electronic images, names, date of visit, and participation in events and programs.

Authority for Maintenance of the System:

The system is established and maintained pursuant to 12 U.S.C. 4513.

Purpose(s):

FHFA uses these records for reproduction in agency documents and communications such as reports, agency plans, training materials, press releases, briefing materials, research documents, newsletters, and presentations.

Routine Uses of Records Maintained in the System, Including Categories of Users and the Purposes of Such Uses:

It shall be a routine use to disclose information contained in this system for the purposes and to the users identified below:

1. FHFA personnel authorized as having a need to access the records in performance of their official functions.

2. For distribution and reproduction for news, external relations, and public affairs purposes such as web sites, communications, reports, research, plans, press releases, and articles.

3. For reproduction in presentations and displays at events such as ceremonies, receptions, and training and educational programs.

4. In support of research activities conducted by FHFA personnel and other Federal agencies, as well as members of the public.

5. A consultant, person, or entity that contracts or subcontracts with FHFA, to the extent necessary for the performance of the contract or subcontract and consistent with the purpose of the system, provided that the person or entity acknowledges in writing that it is required to maintain Privacy Act safeguards for the information.

Disclosure to Consumer Reporting Agencies:

None.

Policies and Practices for Storing, Retrieving, Accessing, Retaining and Disposing of Records in the System:

Storage:

Records in this system are stored on hardcopy and electronic media.

Retrievability:

By name, photograph, date of event, name of event, or program.

Safeguards:

Records are maintained in controlled access areas. Electronic records are protected by restricted access procedures, including user identifications and passwords. Only FHFA staff whose official duties require access are allowed to view, administer, and control these records.

Retention and Disposal:

Records are maintained in accordance with National Archives and Records Administration and FHFA retention schedules. Records are disposed of according to accepted techniques.

System Manager(s) and Address:

Office of External Relations, Federal Housing Finance Agency, 1700 G Street NW., Washington, DC 20552.

Notification Procedures:

Direct inquiries as to whether this system contains a record pertaining to an individual to the Privacy Act Officer, Federal Housing Finance Agency, 1625 Eye Street NW., Washington, DC 20006, in accordance with the procedures set forth in 12 CFR part 1204.

Record Access Procedures:

Direct requests to access, amend or correct a record to the Privacy Act Officer, Federal Housing Finance Agency, 1625 Eye Street NW., Washington, DC 20006, in accordance with the procedures set forth in 12 CFR part 1204.

Contesting Record Procedures:

Direct requests to contest or appeal an adverse determination for a record to the Privacy Act Appeals Officer, Federal Housing Finance Agency, 1700 G Street NW., Washington, DC 20552, in accordance with the procedures set forth in 12 CFR part 1204.

Record Source Categories:

Information is provided by the subject of the record, authorized representatives, supervisors, employers, other employees, other Federal, state, or local agencies, and commercial entities. Indexing information is derived from information recorded on photographs or from FHFA staff or other individuals who have knowledge of the event and individuals photographed.

Exemptions Claimed for the System:

None.

[FR Doc. 2010-11000 Filed 5-7-10; 8:45 am]

BILLING CODE P